DEPARTMENT OF TRANSPORTATION

Federal Aviation Administration

14 CFR Part 71

[Docket No. FAA-2025-2023; Airspace Docket No. 25-ANM-137]

RIN 2120-AA66

Establishment of United States Area Navigation (RNAV) Route Q-151 and Revocation of Jet Route J-517 in the Northern United States

AGENCY: Federal Aviation Administration (FAA), DOT.

ACTION: Notice of proposed rulemaking (NPRM).

SUMMARY: This action proposes to establish United States Area Navigation (RNAV) Route Q-151 and revoke Jet Route J-517 in the northern United States. The FAA is proposing this action due to the lack of navigational signal coverage restricting usage of J-157.

DATES: Comments must be received on or before September 8, 2025.

ADDRESSES: Send comments identified by FAA Docket No. FAA-2025-2023 and Airspace Docket No. 25-ANM-137 using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FAA Order JO 7400.11J, Airspace Designations and Reporting Points, and subsequent amendments can be viewed online at www.faa.gov/air_traffic/publications/. You may also contact the Rules and Regulations Group, Policy Directorate, Federal Aviation Administration, 600 Independence Avenue SW, Washington, DC 20597; telephone: (202) 267-8783.

FOR FURTHER INFORMATION CONTACT: Steven Roff, Rules and Regulations Group, Policy Directorate, Federal Aviation Administration, 600 Independence Avenue SW, Washington, DC 20597; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would amend the airway structure as necessary to preserve the safe and efficient flow of air traffic within the National Airspace System.

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Availability of Rulemaking Documents

An electronic copy of this document may be downloaded through the internet at www.regulations.gov. Recently published rulemaking documents can also be accessed through the FAA's web page at www.faa.gov/air_traffic/publications/airspace_amendments/.

You may review the public docket containing the proposal, any comments received and any final disposition in person in the Dockets Operations office (see ADDRESSES section for address, phone number, and hours of operations). An informal docket may also be examined during normal business hours at the office of the Western Service Center, Federal Aviation Administration, 2200 South 216th St., Des Moines, WA 98198.

Incorporation by Reference

United States Area Navigation Routes are published in paragraph 2006 and Jet Routes are published in paragraph 2004 of FAA Order JO 7400.11, Airspace Designations and Reporting Points, which is incorporated by reference in 14 CFR 71.1 on an annual basis. This document proposes to amend the current version of that order, FAA Order JO 7400.11J, dated July 31, 2024, and effective September 15, 2024. These updates would be published in the next update to FAA Order JO 7400.11. FAA Order JO 7400.11J, which lists Class A, B, C, D, and E airspace areas, air traffic service routes, and reporting points, is publicly available as listed in the ADDRESSES section of this document.

Background

Jet Route J-517 currently extends between the Boise, ID, Very High Frequency Omnidirectional Range (VOR)/Tactical Air Navigation (VORTAC) and the Cranbrook, BC, Canada, VOR/Distance Measuring Equipment (VOR/DME), excluding the airspace with Canada. J-517 is unavailable to aircraft between the Boise and Spokane VORTACs unless they are equipped with a RNAV system with Global Positioning System (GPS) as annotated in Notice to Airmen FDC 5/7559 and FDC 5/7557. The route is subject to a service volume limitation issue with the Very High Frequency (VHF) signal due to terrain blocking the signal. Because of these issues, the FAA is proposing to revoke J-517 in its entirety and establish RNAV Route Q-151 as a replacement. Q-151 would extend between the WINEN, UT, waypoint (WP) and the EDGES, ID, Fix. The current EDGES Fix will be relocated and will replace the computer navigation fix, BZXIV, as a border coordination fix between the United States and Canada. Concurrently with this airspace action, NAV CANADA will revoke the remaining segment of J-517 within Canadian airspace and establish Q-151 between EDGES and the Cranbrook, BC, Canada, VOR/DME.

The Proposal

The FAA is proposing an amendment to 14 CFR part 71 by establishing RNAV Route Q-151 and revoking J-517 in its entirety.

J-517: Jet Route J-517 currently extends between the Boise, ID, VORTAC and the Cranbrook, BC, Canada, VOR/DME, excluding the airspace with Canada. J-517 is unavailable to aircraft between the Boise and Spokane VORTACs unless they are equipped with a RNAV system with GPS as annotated in Notice to Airmen FDC 5/7559 and FDC 5/7557. The FAA is proposing to revoke J-517 in its entirety and establish RNAV Route Q-151 as a replacement.

Q-151: The establishment of RNAV Q-151 is being proposed as a replacement for the loss of Jet Route J-517. Q-151 would extend between the WINEN, UT, WP and the EDGES, ID, Fix.

Regulatory Notices and Analyses

The FAA has determined that this proposed regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1G, “FAA National Environmental Policy Act Implementing Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11J, Airspace Designations and Reporting Points, dated July 31, 2024, and effective September 15, 2024, is amended as follows:

Paragraph 2006 United States Area Navigation Routes.

* * * * *

Q-151 WINEN, UT to EDGES, ID [New]
WINEN, UT | WP | (Lat. 37°56′00.00″ N, long. 113°30′00.00″ W)
PICHO, UT | WP | (Lat. 39°58′00.00″ N, long. 112°35′00.00″ W)
PATIO, UT | WP | (Lat. 41°16′00.00″ N, long. 112°32′00.00″ W)
BROPH, ID | WP | (Lat. 42°43′15.71″ N, long. 114°52′31.80″ W)
Boise, ID (BOI) | VORTAC | (Lat. 43°33′10.12″ N, long. 116°11′31.65″ W)
HILIE, ID | FIX | (Lat. 47°31′05.33″ N, long. 116°41′22.93″ W)
EDGES, ID | FIX | (Lat. 49°00′00.00″ N, long. 116°31′51.36″ W)

* * * * *

Paragraph 2004 Jet Routes.

* * * * *

J-517 [Revoked]

* * * * *

Issued in Washington, DC, on July 22, 2025.
Brian Eric Konie,
Manager (A), Rules and Regulations Group.

[FR Doc. 2025-13950 Filed 7-23-25; 8:45 am]

BILLING CODE 4910-13-P